ENVIRONMENTAL PROTECTION AGENCY

[OPPTS-51962; FRL-6764-4]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from December 7, 2000 to December 19, 2000, consists of the PMNs and TMEs, both pending or expired, and the notices of commencement to manufacture a new chemical that the Agency has received under TSCA section 5 during this time period. The “S” and “G” that precede the chemical names denote whether the chemical idenity is specific or generic.

ADDRESSES: Comments may be submitted by mail, electronically, or in person. Please follow the detailed instructions for each method as provided in Unit I. of the SUPPLEMENTARY INFORMATION. To ensure proper receipt by EPA, it is imperative that you identify docket control number OPPTS-51962 and the specific PMN number in the subject line on the first page of your response.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPTS-51962. The official record consists of the documents specifically referenced in this action, any public comments received during an applicable comment period, any test data submitted by the manufacturer/importer and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51962 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51962 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from December 7, 2000 to December 19, 2000, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

Table I. 28 Premanufacture Notices Received From: 12/07/00 to 12/19/00
Case No. | Received Date | Projected Notice End Date | Manufacturer/Importer | Use | Chemical
P-01-0157 | 12/07/00 | 03/07/01 | Dow Corning Corporation | (S) Adhesion promoter for silicone elastomers | (G) Aminoalkoxysilane
P-01-0158 | 12/07/00 | 03/07/01 | Warner-Jenkinson Co., Inc. | (S) Technical dye intermediate | (S) Xanthylium, 3,6-bis[(2,6-dimethylphenyl)amino]-9-(2-sulfophenyl)-, inner salt
P-01-0159 | 12/08/00 | 03/08/01 | CBI | (G) Component of coating with open use | (G) Modified aminoplastic crosslinker
P-01-0160 | 12/11/00 | 03/11/01 | CBI | (G) Laminating adhesive | (G) Polymer dispersion of aromatic isocyanate, aliphatic polyols, and aliphatic amines
P-01-0161 | 12/11/00 | 03/11/01 | CBI | (G) Additive for paint | (G) Aliphatic capped polyester
P-01-0162 | 12/11/00 | 03/11/01 | CBI | (G) Open, non-dispersive use | (G) Acrylic polymer salt
P-01-0163 | 12/11/00 | 03/11/01 | CBI | (G) Open, non-dispersive use | (G) Acrylic polymer salt
P-01-0164 | 12/11/00 | 03/11/01 | CIBA Specialty Chem. Corp., Colors Division | (G) Textile dye | (G) Alkylnitrile, -[[[[substituted thiazole]azo]-substituted phenyl]alkylamino]-
P-01-0165 | 12/11/00 | 03/11/01 | CBI | (G) Demulsifies (emulsion breaker) for water-in-oil emulsions | (G) Polyethyleneimine propoxylate quat.
P-01-0166 | 12/12/00 | 03/12/01 | Degussa-Huls Corporation | (G) Chemical intermediate | (S) 5-hexen-1-ol
P-01-0167 | 12/12/00 | 03/12/01 | CIBA Specialty Chemicals Corporation | (S) Imported intermediate for the manufacture of hindered amine light stabilizers | (G) Substituted piperidinamine
P-01-0168 | 12/12/00 | 03/12/01 | CBI | (G) Catalyst | (G) Silicone salt
P-01-0169 | 12/13/00 | 03/13/01 | Arteva Specialties S.A.R.L. d/b/a Kosa | (S) Raw material in the manufacture of rigid polyurethane foam | (G) Aromatic polyester polyol
P-01-0170 | 12/14/00 | 03/14/01 | Novartis Crop Protection, Inc. | (S) Safener used in pesticide formulation | (S) Acetic acid, [(5-chloro-8-quinolinyl)oxy-], 1-methylhexyl ester
P-01-0171 | 12/14/00 | 03/14/01 | CBI | (G) Component of coating with open use | (G) Acrylic polymer
P-01-0172 | 12/15/00 | 03/15/01 | CBI | (G) Open, non-dispersive (resin) | (G) Blocked cycloaliphatic polyisocyanate
P-01-0173 | 12/15/00 | 03/15/01 | CBI | (G) Open, non-dispersive use | (G) Silated urethane polymer
P-01-0174 | 12/15/00 | 03/15/01 | CBI | (G) Open, non-dispersive use | (G) Carbamate polymer
P-01-0175 | 12/15/00 | 03/15/01 | Summit Specialty Chemicals Corporation | (G) Monomer for polymer production | (G) Acrylothio sulfide
P-01-0176 | 12/15/00 | 03/15/01 | CBI | (S) Specialty grease thickener | (G) Aromatic substituted diurea
P-01-0177 | 12/15/00 | 03/15/01 | CBI | (S) Specialty grease thickener | (G) Aromatic substituted diurea
P-01-0178 | 12/18/00 | 03/18/01 | CBI | (G) Fragrance | (S) 3-butenoic acid, 2-hydroxy-3-methyl-, ethylester
P-01-0179 | 12/18/00 | 03/18/01 | H.B. Fuller Company | (S) Industrial wood adhesive for wood reclamation | (G) Acrylate polymer
P-01-0180 | 12/18/00 | 03/18/01 | H.B. Fuller Company | (S) Industrial wood adhesive for wood reclamation | (G) Acrylate polymer
P-01-0181 | 12/18/00 | 03/18/01 | Reichhold, Inc. | (G) Hot melt polyurethane adhesive | (G) Isocyanate functional polyether polyester acrylic urethane polymer
P-01-0182 | 12/19/00 | 03/19/01 | NOF America Corporation | (S) Coating resin for anti-fogging clearcoat in automotive use | (G) Methacrylate copolymer
P-01-0183 | 12/19/00 | 03/19/01 | CBI | (G) Paint, coating, plastic additive, open, non-dispersive use | (G) Thiazine-indigo
P-01-0184 | 12/19/00 | 03/19/01 | CBI | (G) Pigment dispersant | (G) Quaternary amine salt of a fatty acid polyester amide

In table II, EPA provides the following information (to the extent that such information is not claimed as CBI) on the TMEs received:

Table II. 2 Test Marketing Exemption Notices Received From: 12/07/00 to 12/19/00
Case No. | Received Date | Projected Notice End Date | Manufacturer/Importer | Use | Chemical
T-01-0007 | 12/08/00 | 01/22/01 | CBI | (G) Component of coating with open use | (G) Modified aminoplastic crosslinker
T-01-0008 | 12/19/00 | 02/02/01 | CBI | (G) Cleaning hydrotrope | (G) Monoalkyl quaternary ammonium salt

In table III, EPA provides the following information (to the extent that such information is not claimed as CBI) on the Notices of Commencement to manufacture received:

Table III. 11 Notices of Commencement From: 12/07/00 to 12/19/00
Case No. | Received Date | Commencement/Import Date | Chemical
P-00-0415 | 12/11/00 | 10/18/00 | (G) Calcium fatty acid complex
P-00-0456 | 12/19/00 | 12/12/00 | (G) Fluoroelastomer
P-00-0690 | 12/15/00 | 11/30/00 | (G) Alkoxylated allyl methacrylate
P-00-0718 | 12/18/00 | 11/07/00 | (G) Modified polyester
P-00-0766 | 12/08/00 | 11/11/00 | (G) Rosin modified phenolic resin
P-00-0922 | 12/18/00 | 11/27/00 | (G) Alkoxy borohydride
P-00-0990 | 12/11/00 | 11/13/00 | (G) Amine salt of polyurethane resin
P-00-1011 | 12/07/00 | 11/17/00 | (G) Acrylic copolymer
P-00-1028 | 12/07/00 | 11/08/00 | (G) Pyridine carboxylic ester
P-00-1067 | 12/08/00 | 11/30/00 | (G) Linear alkyl polyhydroxypolyester
P-99-0352 | 12/19/00 | 11/30/00 | (S) Dodecanamide, n-[2-(-hydroxyethoxy)ethyl]-

List of Subjects

Environmental protection, Chemicals, Premanufacturer notices.

Dated: February 2, 2001.
Deborah A. Williams,
Acting Director, Information Management Division, Office of Pollution Prevention and Toxics.

[FR Doc. 01-3382 Filed 2-8-01; 8:45 am]

BILLING CODE 6560-50-S